FEDERAL COMMUNICATIONS COMMISSION

[OMB 3060-0804]

Information Collection Being Submitted for Review and Approval to the Office of Management and Budget

AGENCY: Federal Communications Commission.

ACTION: Notice and request for comments.

SUMMARY: As part of its continuing effort to reduce paperwork burdens, and as required by the Paperwork Reduction Act (PRA) of 1995, the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written comments should be submitted on or before August 22, 2016. If you anticipate that you will be submitting comments, but find it difficult to do so within the period of time allowed by this notice, you should advise the contacts below as soon as possible.

ADDRESSES: Direct all PRA comments to Nicholas A. Fraser, OMB, via email Nicholas_A._Fraser@omb.eop.gov; and to Nicole Ongele, FCC, via email PRA@fcc.gov and to Nicole.Ongele@fcc.gov. Include in the comments the OMB control number as shown in the “Supplementary Information” section below.

FOR FURTHER INFORMATION CONTACT: For additional information or copies of the information collection, contact Nicole Ongele at (202) 418-2991. To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION:

OMB Control Number: 3060-0804.

Title: Universal Service—Rural Health Care Program.

Form Numbers: FCC Forms 460, 461, 462, 463, 465, 466, and 467.

Type of Review: Revision of a currently approved collection.

Respondents: Business or other for-profit; not-for-profit institutions; federal government; and state, local, or Tribal governments.

Number of Respondents and Responses: 19,484 respondents; 137,846 responses.

Estimated Time per Response: 0.1-40 hours.

Frequency of Response: On occasion, one-time, annual, quarterly, and monthly reporting requirements.

Obligation to Respond: Required to obtain or retain benefits. Statutory authority for this collection of information is contained in sections 1, 4(i), 4(j), 201-205, 214, 254, and 403 of the Communications Act of 1934, as amended, 47 U.S.C. 151-154, 201-205, 218-220, 254, 303(r), 403 and 405.

Total Annual Burden: 289,484 hours.

Total Annual Cost: No cost.

Privacy Impact Assessment: No impact(s).

Nature and Extent of Confidentiality: The Commission is not requesting that the respondents submit confidential information to the Commission. Respondents may, however, request confidential treatment for information they believe to be confidential under 47 CFR 0.459 of the Commission's rules. We note that the universal service administrator, the Universal Service Administrative Company (USAC), must preserve the confidentiality of all data obtained from respondents and contributors to the universal service support program mechanism; must not use the data except for purposes of administering the universal service support program; and must not disclose data in company-specific form unless directed to do so by the Commission.

Needs and Uses: The Commission is seeking Office of Management and Budget (OMB) approval to revise the information collection requirements contained in this collection. There is a change in the reporting and recordkeeping requirements.

This collection is utilized for the rural health care (RHC) support mechanism of the Commission's universal service fund (USF). The collection of the information is necessary so that the Commission and USAC will have sufficient information to determine if entities are eligible for funding pursuant to the RHC universal service support mechanism, to determine if entities are complying with the Commission's rules, and to prevent waste, fraud, and abuse. In addition, the information is necessary in order to allow the Commission to evaluate the extent to which the RHC Programs are meeting the statutory objectives specified in section 254(h) of the 1996 Act, and the Commission's own performance goals for the Healthcare Connect Fund. This information collection is being revised to: (1) Eliminate the information requirement for the Internet Access Program; (2) extend some of the existing collection requirements for the Healthcare Connect Fund, the 2006 Pilot Program, and the Telecommunications Program; and (3) revise some of the existing information collection requirements for the Healthcare Connect Fund and the Telecommunications Programs. This information collection is organized by program indicating which information collection requirements are being eliminated, extended, and/or revised for each RHC Program. The Healthcare Connect Fund includes FCC Forms 460, 461, 462, and 463, and the Telecommunications Program includes FCC Forms 465, 466, 467. At the time of the Commission's last information collection submission, 2006 Pilot Program participants were using the FCC Forms for the Telecommunications and Internet Access Programs. 2006 Pilot Program participants and former 2006 Pilot Program participants, however, can now seek funding from the Healthcare Connect Fund and the Telecommunications Programs using the forms for those programs. The revisions to these FCC Forms, where applicable, are intended to make the RHC Program information requests consistent between the programs, to the extent possible. Since the last revision to this information collection, USAC has upgraded its information technology environment to create an integrated online application and administrative process for the Healthcare Connect Fund and all Healthcare Connect Fund forms are being submitted and processed via the online portal. Similarly, the information collection requirements associated with the Telecommunications Program have also been placed online. Taken as a whole, the implementation of these automated systems should reduce administrative burdens and costs for applicants, service providers, and USAC. Since the application processes have now been automated, the Commission will, in this information collection request, submit templates describing the type of information that will be requested from RHC Program participants, rather than submitting paper forms. As part of this information collection, we propose to make the revisions to this information collection and all RHC forms processed via the online portal effective January 1, 2017. The current FCC Forms will remain in effect until that date.

Federal Communications Commission.
Marlene H. Dortch,
Secretary.

[FR Doc. 2016-17180 Filed 7-20-16; 8:45 am]

BILLING CODE 6712-01-P